DEPARTMENT OF AGRICULTURE

Grain Inspection, Packers and Stockyards Administration

Proposed Posting of Stockyards; Correction

AGENCY: Grain Inspection, Packers and Stockyards Administration, USDA.

ACTION: Notice and request for comments; correction.

SUMMARY: The Grain Inspection, Packers and Stockyards Administration published a notice in the Federal Register (73 FR 15969) on March 26, 2008, announcing that 16 facilities now meet the definition of a stockyard under the Packers and Stockyards Act and that therefore we proposed to post signs identifying these facilities as posted stockyards. The document was published without indicating the date by which we expect those stockyards will be posted.

FOR FURTHER INFORMATION CONTACT: Catherine Grasso, 202-720-7201.

Correction

In the Federal Register of March 26, 2008, in FR Doc. E8-6090, on page 15969, in the third column correct the second sentence of the first full paragraph to read:

If we don't receive comments about these facilities, we expect that they will be posted by May 27, 2008.

James E. Link,
Administrator, Grain Inspection, Packers and Stockyards Administration.

[FR Doc. E8-8901 Filed 4-23-08; 8:45 am]

BILLING CODE 3410-KD-P